DEPARTMENT OF TRANSPORTATION

Federal Aviation Administration

14 CFR Part 71

[Docket No. FAA-2021-0294; Airspace Docket No. 20-ASO-31]

RIN 2120-AA66

Amendment and Removal of Air Traffic Service (ATS) Routes; Eastern United States

AGENCY: Federal Aviation Administration (FAA), DOT.

ACTION: Final rule.

SUMMARY: This action amends two jet routes, and removes four jet routes, in the eastern United States. This action is in support of the Northeast Corridor Atlantic Coast Route Project to improve the efficiency of the National Airspace System (NAS) and reduce dependency on ground-based navigational systems.

DATES: Effective date 0901 UTC, December 2, 2021. The Director of the Federal Register approves this incorporation by reference action under 1 CFR part 51, subject to the annual revision of FAA Order 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC, 20591; telephone: (202) 267-8783. The Order is also available for inspection at the National Archives and Records Administration (NARA). For information on the availability of FAA Order JO 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

History

The FAA published a notice of proposed rulemaking for Docket No. FAA-2021-0294 in the Federal Register (86 FR 24801; May 10, 2021), amending three jet routes, and removing four jet routes in the United States in support of the Northeast Corridor Atlantic Coast Route Project. Interested parties were invited to participate in this rulemaking effort by submitting written comments on the proposal. No comments were received.

Jet routes are published in paragraph 2004 of FAA Order JO 7400.11F dated August 10, 2021, and effective September 15, 2021, which is incorporated by reference in 14 CFR 71.1. The jet routes listed in this document will be subsequently amended in, or removed, respectively, from the Order.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Difference From the NPRM

The NPRM proposed to amend jet route J-55 by removing the segments between Sea Isle, NJ, and Presque Isle, ME. Design and coordination of the proposed amendment is incomplete so the J-55 amendment is removed from this final rule. The change will be deferred to a later date. J-55 will remain as currently depicted on aeronautical charts.

The Rule

This action amends 14 CFR part 71 by amending two jet routes and removing four jet routes in the eastern United States. This action supports the Northeast Corridor Atlantic Coast Route Project by amending and removing certain jet route segments that are being replaced by Area Navigation (RNAV) routing. Additionally, the jet route changes will reduce aeronautical chart clutter by removing unneeded route segments.

The jet route changes are as follows:

J-42: J-42 currently extends between the Delicias, Mexico, VOR/DME, and the Boston, MA, VOR/DME. This action removes the segments between Texarkana, AR, and Boston, MA. The amended route extends between Delicias, Mexico and Texarkana, AR. The portion within Mexico is excluded.

J-150: J-150 extends between the Gordonsville, VA, VOR/Tactical Air Navigation (VORTAC) and the Marconi, MA, 082° and the Boston, MA, 097° radials (STOOL intersection). This action removes the entire route.

J-191: J-191 currently extends between the Robbinsville, NJ, VORTAC, and the Wilmington, NC, VORTAC. This action removes the segments between Robbinsville, NJ, and Patuxent, MD. The amended route extends between Hopewell, VA and Wilmington, NC.

J-193: J-193 currently extends between the Wilmington, NC, VORTAC, and the intersection of the Harcum, VA, VORTAC 006° and the Hopewell, VA, VORTAC 030° radials (HUBBS intersection). This action removes the entire route.

J-222: J-222 currently extends between the Robbinsville, NJ, VORTAC, and the Cambridge, NY, VHF Omnidirectional Range (VOR)/Distance Measuring Equipment (DME). This action removes the entire route.

J-225: J-225 currently extends between the Cedar Lake, NJ, VOR/DME, and the Providence, RI, VOR/DME. This action removes the entire route.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this proposed rule, when promulgated, does not have a significant economic impact on a substantial number of small entities under the criteria of the Regulatory Flexibility Act.

Environmental Review

The FAA has determined that this action of amending two jet routes, removing four jet routes, in the eastern United States qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F Airspace Designations and Reporting Points, dated August 10, 2021, and effective September 15, 2021, is amended as follows:

Paragraph 2004 Jet Routes.

* * * * *

J-42 [Amended]

From Delicias, Mexico, via Fort Stockton, TX; Abilene, TX; Ranger, TX; Texarkana, AR; excluding the portion in Mexico.

* * * * *

J-150 [Removed]

* * * * *

J-191 [ Amended]

From Hopewell, VA; to Wilmington, NC

* * * * *

J-193 [Removed]

* * * * *

J-222 [Removed]

* * * * *

J-225 [Removed]

* * * * *

Issued in Washington, DC, on September 15, 2021.
Michael R. Beckles,
Manager, Rules and Regulations Group.

[FR Doc. 2021-20294 Filed 9-21-21; 8:45 am]

BILLING CODE 4910-13-P